DEPARTMENT OF AGRICULTURE

Forest Service

Recreation Resource Advisory Committees

AGENCY: Forest Service, USDA.

ACTION: Notice of intent to establish Recreation Resource Advisory Committees and a call for nominations.

SUMMARY: The Secretary of Agriculture intends to establish five Forest Service Recreation Resource Advisory Committees (Recreation RACs) pursuant to Section 4 of the Federal Lands Recreation Enhancement Act (REA) that was passed into law as part of the 2005 Consolidated Appropriations Act (Pub. L. 108-447) on December 8, 2004. The Recreation RACs will operate in the Pacific Northwest, Pacific Southwest, Eastern, and Southern Regions and the State of Colorado and will provide recommendations regarding recreation fees to both the Forest Service and the Bureau of Land Management (BLM) as appropriate. The public is invited to submit nominations for membership on the Recreation RACs.

DATES: All nominations should be received by the appropriate Regional Office by October 23, 2006. If necessary, managers in each region may continue accepting applications beyond this date to ensure broad and balanced representation on the Recreation RAC. Nominations must contain a completed application packet that includes background information and other information that addresses a nominee's qualifications. Application packets for Recreation RACs can be obtained from the Forest Service Regional Offices listed below or on the Web at www.fs.fed.us/passespermits/rrac.

ADDRESSES: Regional Contacts for Recreation RACs:

1. Pacific Northwest Regional Office: Shandra Terry, Regional Public Involvement Coordinator, Public Affairs, 333 SW. 1st Ave., Portland, OR 97208, (503) 808-2242.

2. Pacific Southwest Regional Office: Frances Enkoji, Recreation RAC Coordinator, 1323 Club Drive, Vallejo, CA 94592, (707) 562-8846.

3. Rocky Mountain Regional Office: Pam DeVore, Recreation RAC Coordinator, Recreation, Heritage, and Wilderness, 740 Simms Street, Golden, CO 80401, (303) 275-5043.

4. Eastern Regional Office: Marcia Heymen, Recreation RAC Coordinator, 626 E. Wisconsin Ave., Milwaukee, WI 53202, (414) 297-3662.

5. Southern Regional Office: Caroline Mitchell, Planning and Recreation, Forest Service, 100 Reserve Street, Hot Springs, AR 71901, (501) 321-5318.

FOR FURTHER INFORMATION CONTACT: Julie Cox, National Recreation RAC Coordinator, 333 SW. 1st Avenue, Portland, OR 97208, (503) 808-2984.

SUPPLEMENTARY INFORMATION:

Background

The REA directs the Secretary of Agriculture, the Secretary of the Interior, or both to establish Recreation RACs in each State or region for Federal recreation lands and waters managed by the Forest Service or the BLM. These committees will make recommendations regarding the recreation fee program implementing or eliminating standard amenity fees; expanded amenity fees; and noncommercial, individual special recreation permit fees; expanding or limiting the recreation fee program; and fee-level changes.

The REA grants flexibility in the establishment of Recreation RACs by stating that the Secretaries:

1. May have as many additional Recreation RACs in a State or region as the Secretaries consider necessary;

2. Shall not establish a Recreation RAC in a State if the Secretaries determine, in consultation with the Governor of the State, that sufficient interest does not exist to ensure that participation on the committee is balanced in terms of the points of view represented and the functions to be performed; or

3. May use a resource advisory committee established pursuant to another provision of law and in accordance with that law.

To help determine the appropriate configuration of Recreation RACs, the Forest Service and BLM held 11 listening sessions in Idaho; Oregon; California; Colorado; Arizona; Nevada; Georgia; and Washington, DC; in June and July of 2005. Attendees included key partners, organizations with an interest in recreation management on Federal lands, and existing BLM and Forest Service advisory council members.

After the public meetings, conversations with congressional staff, internal Agency analysis, and legal review, the Forest Service and BLM developed the following advisory organization that has been approved by both the Departments of Agriculture and the Interior:

1. Establishment of five new Recreation RACs for the Forest Service's Pacific Northwest, Pacific Southwest, Eastern, and Southern Regions, and the State of Colorado.

2. Use of existing BLM Resource Advisory Councils (RACs) where appropriate;

3. Use of the existing Forest Service Black Hills National Forest Advisory Board; and

4. Does not establish Recreation RACs where the Secretaries, in consultation with the Governor of each State, have determined that sufficient interest does not exist as allowed in REA.

The Secretaries have signed an Interagency Agreement that authorizes the Forest Service to using existing BLM RACs and the BLM to use Forest Service-established Recreation RACs for the purposes stated in REA.

Advisory Committee Organization

The organizational structure agreed to by the Secretaries is listed below by State for the Forest Service (FS) and the BLM:

State | BLM RAC(s) | FS recreation RAC | Existing FS advisory board | No recreation RAC
Alabama |  | Southern Region—FS. |  |
Alaska |  |  |  | Governor's request.
Arizona | BLM and FS. |  |  |
Arkansas |  | Southern Region—FS. |  |
California |  | Pacific Southwest Region—BLM and FS. |  |
Colorado |  | Colorado—FS. |  |
Connecticut |  | No FS or BLM lands. |  |
Delaware |  | No FS or BLM lands. |  |
Florida |  | Southern Region—FS. |  |
Georgia |  | Southern Region—FS. |  |
Idaho | BLM and FS. |  |  |
Illinois |  | Eastern Region—FS. |  |
Indiana |  | Eastern Region—FS. |  |
Iowa |  | No FS or BLM lands. |  |
Kansas |  | Colorado—FS. |  |
Kentucky |  | Southern Region—FS. |  |
Louisiana |  | Southern Region—FS. |  |
Maine |  | Eastern Region—FS. |  |
Maryland |  | No FS or BLM lands. |  |
Massachusetts |  | No FS or BLM lands. |  |
Michigan |  | Eastern Region—FS. |  |
Minnesota |  | Eastern Region—FS. |  |
Mississippi |  | Southern Region—FS. |  |
Missouri |  | Eastern Region—FS. |  |
Montana | BLM and FS. |  |  |
Nebraska |  |  |  | Governor's request.
Nevada | BLM and FS. |  |  |
New Hampshire |  | Eastern Region—FS. |  |
New Jersey |  | No FS or BLM lands. |  |
New Mexico | BLM and FS. |  |  |
New York |  | Eastern Region—FS. |  |
North Carolina |  | Southern Region—FS. |  |
North Dakota | BLM and FS will use the Dakotas BLM RAC. |  |  |
Ohio |  | Eastern Region—FS. |  |
Oklahoma | Black Kettle and Rita Blanca National Grasslands will use a New Mexico BLM RAC | Southern Region—FS Ouachita National Forest will use the Southern Region Recreation RAC. |  |
Oregon |  | Pacific Northwest Region—BLM and FS. |  |
Pennsylvania |  | Eastern Region—FS. |  |
Puerto Rico |  | Southern Region—FS. |  |
Rhode Island |  | Eastern Region—FS. |  |
South Carolina |  | Southern Region—FS. |  |
South Dakota | BLM and Dakota Prairie National Grassland will use the Dakotas BLM RAC |  | Black Hills National Forest will use its Advisory Board |
Tennessee |  | Southern Region—FS. |
Texas | Black Kettle, Rita Blanca, and McClellen Creek National Grasslands will use a New Mexico BLM RAC | Southern Region—FS National Forests of Texas will use the Southern Region Recreation RAC. |
Vermont |  | Eastern Region—FS. |
Virginia |  | Southern Region—BLM and FS. |  |
Utah | BLM and FS. |  |  |
Washington |  | Pacific Northwest Region—BLM and FS. |  |
West Virginia |  | Eastern Region—FS. |  |
Wisconsin |  | Eastern Region—FS. |  |
Wyoming |  |  |  | Governor's request.

Nomination and Application Information for Recreation RACs

Each Forest Service Recreation RAC shall consist of 11 members appointed by the Secretary of Agriculture. These members shall provide a broad and balanced representation from the recreation community as follows:

1. Five persons who represent recreation users and that include, as appropriate, the following:

a. Winter motorized recreation, such as snowmobiling;

b. Winter nonmotorized recreation, such as snowshoeing, cross-country and downhill skiing, and snowboarding;

c. Summer motorized recreation, such as motorcycles, boaters, and off-highway vehicles;

d. Summer nonmotorized recreation, such as backpacking, horseback riding, mountain biking, canoeing, and rafting; and

e. Hunting and fishing.

2. Three persons who represent interest groups that include, as appropriate, the following:

a. Motorized outfitters and guides;

b. Nonmotorized outfitters and guides; and

c. Local environmental groups.

3. Three persons, as follows:

a. A State tourism official to represent the State;

b. A person who represents affected Indian tribes; and

c. A person who represents affected local government interests.

Any individual or organization may nominate one or more qualified persons to represent the interests listed above to serve on the Recreation RAC. To be considered for membership, nominees must—

1. Identify what interest group they would represent and how they are qualified to represent that group;

2. State why they want to serve on the committee and what they can contribute;

3. Show their past experience in working successfully as part of a collaborative group; and

4. Complete Form AD-755, Advisory Committee or Research and Promotion Background Information.

Letters of recommendation are welcome. Individuals may also nominate themselves. Nominees do not need to live in a State within a particular Recreation RAC area of jurisdiction nor live in a State in which Forest Service-managed lands are located.

Application packets, including evaluation criteria and the AD-755 form, are available at http://www.fs.fed.us/passespermits/rrac or by contacting the respective regions identified in this notice. Nominees must submit all documents to the appropriate regional contact. Additional information about recreation fees and REA is available at http://www.fs.fed.us/passespermits/about-rec-fees.shtml.

The Agency will also work with Governors and county officials to identify potential nominees.

The Agency will review the applications and prepare a list of qualified applicants from which the Secretary of Agriculture shall appoint both committee members and alternates. An alternate will become a participating member of the Recreation RACs only if the member for whom the alternate is appointed to replace leaves the committee permanently.

Recreation RAC members serve without pay but are reimbursed for travel and per diem expenses for regularly scheduled committee meetings. All Recreation RAC meetings are open to the public and an open public forum is part of each meeting. Meeting dates and times will be determined by Agency officials in consultation with the Recreation RAC members, when the committee is formed.

Dated: August 31, 2006.
Boyd K. Rutherford,
Assistant Secretary for Administration.

[FR Doc. 06-8096 Filed 9-19-06; 3:07 pm]

BILLING CODE 3410-11-U